FEDERAL COMMUNICATIONS COMMISSION

Notice of Public Information Collection(s) Being Reviewed by the Federal Communications Commission

March 20, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before April 28, 2000. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-XXXX.

Title: Auditor's Annual Independence and Objectivity Certification.

Form No.: N/A.

Type of Review: New collection.

Respondents: Business or other for-profit.

Number of Respondents: 7 respondents; 14 responses.

Estimated Time Per Response: 10 hours per response; filed twice annually.

Frequency of Response: On occasion reporting requirement and annual reporting requirement.

Total Annual Burden: 70 hours.

Total Annual Cost: N/A.

Needs and Uses: In the Responsible Accounting Officer (RAO) letter, the Accounting Safeguards Division (ASD), Common Carrier Bureau, is simply making a current GAAS (generally accepted auditing standards) requirement for financial statement audits explicitly applicable to the Section 64.904 audit, i.e., applying the section 64.904 requirement that the audits be performed in accordance with GAAS. Specifically, the RAO requires that carriers' independent auditors: (a) disclose to the ASD, in writing, all relationships between the auditor and its related entities and the carrier and its related entities that in the auditor's professional judgement may reasonably be thought to bear on independence; (b) confirm in writing to ASD that in its professional judgement, it is independent of the carrier, and (c) discuss the auditor's independence with ASD.

The above requirements will be used by ASD to determine whether the independent auditors are performing their audits independently and unbiased of the carrier they audit.

Federal Communications Commission.
Magalie Roman Salas,
Secretary.

[FR Doc. 00-7705 Filed 3-28-00; 8:45 am]

BILLING CODE 6712-01-P